DEPARTMENT OF TRANSPORTATION

Federal Aviation Administration

RTCA Special Committee 205/EUROCAE Working Group 71: Software Considerations in Aeronautical Systems Sixth Joint Plenary Meeting

AGENCY: Federal Aviation Administration (FAA), DOT.

ACTION: Notice of RTCA Special Committee 205/EUROCAE Working Group 71 meeting.

SUMMARY: The FAA is issuing this notice to advise the public of a meeting of RTCA Special Committee 205/EUROCAE Working Group 71: Software Considerations in Aeronautical Systems.

DATES: The meeting will be held September 10-14, 2007 from 8 a.m.-5 p.m. (variable—see daily schedule).

ADDRESS: The meeting will be held at Vienna University, Vienna, Austria.

FOR FURTHER INFORMATION CONTACT: (1) RTCA Secretariat, 1828 L Street, NW., Suite 805, Washington, DC 20036; telephone (202) 833-9339; fax (202) 833-9434; Web site http://www.rtca.org; (2) Joint Secretaries, Europe: Mr. Ross Hannon, telephone +44 78807-46650, e-mail: ross_hannon@binternet.com; US: Mr. Michael DeWalt, telephone (206) 972-0170, e-mail: mike.dewalt@certification.com.

SUPPLEMENTARY INFORMATION: Pursuant to section 10(a)(2) of the Federal Advisory Committee Act (Pub. L. 92-463, 5 U.S.C., Appendix 2), notice is hereby given for a Special Committee 205/EUROCAE Working Group 71 meeting.

NOTE: On arrival at Vienna University please have photo identification available (either a passport, a driver's license bearing a photograph or an identity card) to assist in your badge being issued.

The agenda will include:

• September 10:

• 08:30 a.m.—Registration.

• 09:00-11:30 a.m.—New Attendees Introductory Session.

• 09:00 Sub-group Meetings.

• Lunch.

• 13:00—CAST Meeting for CAST members only (Closed).

• 16:30—Executive Committee/SG Chairs/Secretaries Meeting.

• September 11:

• 08:30—Latecomers Registration.

• 09:00—Open Plenary (Chairmen's Remarks and Introductions, Approve Agenda, Previous Minutes etc.).

• 09:50—Issue List Status Report.

• 10:40—Sub-Group Report Ins and Q & A Session.

• 11:45—Other Committees/Other Documents Reports.

• Lunch.

• 13:30—Sub-Group Meetings.

16:30—Executive Committee/SG Chairs/Secretaries Meeting (Closed).

• September 12:

• 08:00—Sub-Group Meetings.

• Lunch.

• 15:30—Plenary Session to:

• Co-ordinate Efforts.

• Vote on Text Approval.

• 16:30—Close of Day.

• September 13:

• 08:00—Plenary Session to:

• Co-ordinate Efforts.

• Vote on Text Approval.

• 08:30—Sub-Group Meetings.

• Lunch.

• 15:30—Sub-Group Meetings (Continue) or Mandatory Paper Reading Session (TBD).

• 16:30—Executive Committee/SG Chairs/Secretaries Meetings (Closed).

• CAST meeting for CAST Members only (Closed).

• September 14:

• 08:00—Chairmen's Remarks.

• 08:45—Plenary Text Approval for each of the following Sub-Groups:

• Sub-Group 3: Tool Qualification.

• Sub-Group 4: Model Based Design & Verification.

• Sub-Group 5: Object Oriented Technology.

• Sub-Group 6: Formal Methods.

• Sub-Group 7: Special Considerations.

• Sub-Group 2: Issue & Rationale.

• Sub-Group 1: SCWG Document Integration.

• 12:00—Sub-Groups 1-7 Report Out.

• 13:00—Closing Plenary Session (Other Business, Schedule Meeting, Adjourn).

Attendance is open to the interested public but limited to space availability. With the approval of the chairmen, members of the public may present oral statements at the meeting. Persons wishing to present statements or obtain information should contact the person listed on the “FOR FURTHER INFORMATION CONTACT” section. Members of the public may present a written statement to the committee at any time.

Dated: Issued in Washington, DC, on July 6, 2007.
Francisco Estrada C.,
RTCA Advisory Committee.

[FR Doc. 07-3443 Filed 07-13-07; 8:45 am]

BILLING CODE 4910-13-M